DEPARTMENT OF LABOR

Employment and Training Administration

[TA-W-59,402]

McArthur Professional, Inc., Professional Towel Mills Division, Abbeville, SC; Amended Certification Regarding Eligibility To Apply for Worker Adjustment Assistance and Alternative Trade Adjustment Assistance

In accordance with Section 223 of the Trade Act of 1974 (19 U.S.C. 2273), and Section 246 of the Trade Act of 1974, as amended (19 U.S.C. 2813), the Department of Labor issued a Certification of Eligibility to Apply for Worker Adjustment Assistance and Alternative Trade Adjustment Assistance on June 27, 2006, applicable to all workers of McArthur Professional, Inc., Professional Towel Mills Division, Abbeville, South Carolina. The notice was published in the Federal Register on July 17, 2006 (71 FR 40550).

At the request of State agency, the Department reviewed the certification for workers of the subject firm. The affected workers produced towels.

The company official has confirmed that the firm imprints/decorates towels for promotional purposes and the workers producing towels are separately identifiable from the workers in another Department decorating the towels.

The Department inadvertently issued the certification for all workers of the firm. Consequently, the Department is limiting the certification to the workers of McArthur Professional, Inc., Professional Towel Mills Division, Abbeville, South Carolina, engaged in the production of towels.

The amended notice applicable to TA-W-59,402 is hereby issued as follows:

“Workers of McArthur Professional, Inc., Professional Towel Mills Division, Abbeville, South Carolina, engaged in the production of towels, who became totally or partially separated from employment on or after May 15, 2005 through June 27, 2008, are eligible to apply for adjustment assistance under Section 223 of the Trade Act of 1974, and are also eligible to apply for alternative trade adjustment assistance under Section 246 of the Trade Act of 1974.”

Signed at Washington, DC, this 17th day of August 2006.
Linda G. Poole,
Certifying Officer, Division of Trade Adjustment Assistance.

[FR Doc. E6-14327 Filed 8-28-06; 8:45 am]

BILLING CODE 4510-30-P